FEDERAL COMMUNICATIONS COMMISSION

47 CFR Part 90

[WP Docket No. 07-100; Report No. 2984]

Petition for Reconsideration of Action in Rulemaking Proceeding

AGENCY: Federal Communications Commission.

ACTION: Petition for reconsideration.

SUMMARY: In this document, a Petition for Reconsideration (Petition) has been filed in the Commission's Rulemaking proceeding by William Brownlow on behalf of the Public Safety Communications Council.

DATES: Oppositions to the Petition must be filed on or before July 26, 2013. Replies to an opposition must be filed on or before August 5, 2013.

ADDRESSES: Federal Communications Commission, 445 12th Street SW., Washington, DC 20554.

FOR FURTHER INFORMATION CONTACT: Rodney Conway, Wireless Telecommunications Bureau, (202) 418-2904, TTY (202) 418-7233.

SUPPLEMENTARY INFORMATION: This is a summary of Commission's document, Report No. 2984, released June 20, 2013. The full text of document Report No. 2984 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of Part 90 of the Commission's Rules, document FCC 13-52, published at at 78 FR 28749, May 16, 2013, in WP Docket No. 07-100, and published pursuant to 47 CFR 1.429(e). See also § 1.4(b)(1) of the Commission's rules.

Number of Petitions Filed: 1.

Federal Communications Commission.
Marlene H. Dortch,
Secretary, Office of the Secretary, Office of Managing Director.

[FR Doc. 2013-16635 Filed 7-10-13; 8:45 am]

BILLING CODE 6712-01-P